INTERNATIONAL TRADE COMMISSION

[Investigation Nos. 701-TA-561 and 731-TA-1317-1318, 1321-1325, and 1327 (Final)]

Carbon and Alloy Steel Cut-to-Length Plate From Austria, Belgium, France, Germany, Italy, Japan, Korea, and Taiwan

Determination

On the basis of the record ¹ developed in the subject investigations, the United States International Trade Commission (“Commission”) determines, pursuant to the Tariff Act of 1930 (“the Act”), that an industry in the United States is materially injured by reason of imports of carbon and alloy steel cut-to-length plate from Austria, Belgium, France, Germany, Italy, Japan, Korea, and Taiwan, provided for in subheadings 7208.40.30, 7208.51.00, 7208.52.00, 7211.13.00, 7211.14.00, 7225.40.11, 7225.40.30, 7226.20.00, and 7226.91.50 of the Harmonized Tariff Schedule of the United States, that have been found by the Department of Commerce (“Commerce”) to be sold in the United States at less than fair value (“LTFV”) and imports of the subject merchandise subsidized by the government of Korea.²

¹ The record is defined in sec. 207.2(f) of the Commission's Rules of Practice and Procedure (19 CFR 207.2(f)).

² The Commission also finds that imports subject to Commerce's affirmative critical circumstances determination are not likely to undermine seriously the remedial effect of the antidumping duty order on Austria, Belgium or Italy.

Background

The Commission, pursuant to section 735(b) of the Act (19 U.S.C. 1673d(b)), instituted these investigations effective April 8, 2016, following receipt of petitions filed with the Commission and Commerce by ArcelorMittal USA LLC (Chicago, Illinois), Nucor Corporation (Charlotte, North Carolina), and SSAB Enterprises, LLC (Lisle, Illinois). The Commission scheduled the final phase of the investigations following notification of preliminary determinations by Commerce that imports of carbon and alloy steel cut-to-length plate from Austria, Belgium, France, Germany, Italy, Japan, Korea, and Taiwan were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of October 12, 2016 (81 FR 70440). The hearing was held in Washington, DC, on November 30, 2016, and all persons who requested the opportunity were permitted to appear in person or by counsel.

The Commission made these determinations pursuant to section 735(b) of the Act (19 U.S.C. 1673d(b)). It completed and filed its determinations in these investigations on May 18, 2017. The views of the Commission are contained in USITC Publication 4691 (May 2017), entitled Carbon and Alloy Cut-to-Length Plate from Austria, Belgium, France, Germany, Italy, Japan, Korea, and Taiwan: Investigation Nos. 701-TA-561 and 731-TA-1317-1318, 1321-1325, and 1327 (Final).

By order of the Commission.
Issued: May 18, 2017.
Lisa R. Barton,
Secretary to the Commission.

[FR Doc. 2017-10517 Filed 5-22-17; 8:45 am]

BILLING CODE 7020-02-P